DEPARTMENT OF DEFENSE

Department of the Army

Notice of Availability of the Final Environmental Impact Statement (FEIS) for Disposal and Reuse of Fort McPherson, GA

AGENCY: Department of the Army, DoD.

ACTION: Notice of Availability (NOA).

SUMMARY: The Department of the Army announces the availability of the FEIS, which evaluates the potential environmental impacts associated with the disposal and reuse of Fort McPherson, Georgia.

DATES: The waiting period for the FEIS will end 30 days after publication of an NOA in the Federal Register by the U. S. Environmental Protection Agency.

ADDRESSES: To obtain a copy of the FEIS contact Mr. Larry Gissentanna, McPherson BRAC Environmental Coordinator, 1508 Hood Ave., Building 714, Fort Gillem, GA 30297 or larry.gissentanna@us.army.mil.

FOR FURTHER INFORMATION CONTACT: Mr. Larry Gissentanna at (404) 469-3559.

SUPPLEMENTARY INFORMATION: The FEIS covers activities associated with the disposal and reuse of Fort McPherson, Georgia. In accordance with the 2005 Base Closure and Realignment (BRAC) Commission Report, the Army is required to close Fort McPherson and relocate certain tenant organizations to Pope Air Force Base, North Carolina; Shaw Air Force Base, South Carolina; Fort Eustis, Virginia; and Fort Sam Houston, Texas. The tenant relocation actions were the subject of separate National Environmental Policy Act (NEPA) analyses. After tenants are relocated and all non-caretaking operations have ceased on the installation, the Army will close Fort McPherson. Closure is required no later than 15 September 2011.

Following closure, the property (approximately 487 acres) will be excess to Army needs. Accordingly, the Army proposes to dispose of its real property interests at Fort McPherson. The DoD and the Army have recognized the McPherson Planning Local Redevelopment Agency (MPLRA) as the local reuse authority for reuse planning associated with Fort McPherson. The MPLRA developed the Fort McPherson Reuse Plan, which is pending notification from the U.S. Department of Housing and Urban Development required under the BRAC Act and the Stewart B. McKinney Homeless Assistance Act (42 U.S.C. 11301 et seq.). The plan is available electronically at http://www.mcphersonredevelopment.com/. On 9 September 2009, Governor Purdue authorized the establishment of the McPherson Implementing Local Redevelopment Authority, which will be responsible for overseeing the implementation of the Reuse Plan.

Four alternatives were analyzed in the FEIS: (1) A No Action Alternative, under which the Army would continue operations at Fort McPherson at levels similar to those occurring prior to the BRAC Commission's recommendation for closure; (2) an Early Transfer Alternative, under which transfer and reuse of the property would occur before environmental remedial actions have been completed (but consistent with protection of human health and the environment); (3) a Traditional Disposal Alternative, under which transfer and reuse of the property would occur once environmental remediation is complete for individual parcels of the installation; and (4) a Caretaker Status Alternative, which begins following the closure of the installation in the event that the Army is unable to dispose of the property, after which time the maintenance of the property would be reduced to minimal activities necessary to ensure security, health, and safety, and to avoid physical deterioration of facilities. Alternative 2 (Early Transfer) is the Army's preferred alternative, which would make the property available for reuse sooner than under the traditional disposal alternative. Three reuse scenarios, based on medium, medium-high, and high intensity levels of reuse are also evaluated as secondary actions of disposal of Fort McPherson. These reuse scenarios encompass the level of reuse expected under the Reuse Plan, which is considered the medium-high intensity reuse scenario.

For early transfer and traditional disposal alternatives, moderate adverse effects would be expected to occur to aesthetics and visual resources, noise, water resources, biological resources, cultural resources (to include the historic district at Fort McPherson), transportation, and utilities. Reuses analyzed in the EIS could result in significant adverse effects in the areas of land use, air quality, and transportation. Disposal of the property for reuse in accordance with the Reuse Plan would mitigate to less than significant the direct and cumulative impacts of disposal and reuse.

A Record of Decision stating which alternative the Army has selected will not be issued earlier than 30 days after this notice.

An electronic version of the FEIS can be viewed or downloaded from the following Web site: http://www.hqda.army.mil/acsim/brac/nepa_eis_docs.htm.

Dated: December 13, 2010.
Hershell E. Wolfe,
Acting Deputy Assistant Secretary of the Army (Environment, Safety and Occupational Health).

[FR Doc. 2010-32174 Filed 12-21-10; 8:45 am]

BILLING CODE 3710-08-P